UNITED STATES SENTENCING COMMISSION

Sentencing Guidelines for United States Courts

AGENCY: United States Sentencing Commission.

ACTION: Notice of proposed amendments to the Sentencing Commission's Rules of Practice and Procedure. Request for public comment.

SUMMARY: This notice sets forth proposed amendments to the Commission's Rules of Practice and Procedure. The Commission invites public comment on these proposed amendments.

DATE: Public comment should be received not later than October 5, 2001.

ADDRESSES: Send comments to: United States Sentencing Commission, One Columbus Circle, NE, Suite 2-500, South Lobby, Washington, DC 20002-8002, Attention: Public Affairs-Amendment of Rules Comment.

FOR FURTHER INFORMATION CONTACT: Michael Courlander, Public Affairs Officer, Telephone: (202) 502-4590.

SUPPLEMENTARY INFORMATION: Section 995(a)(1) of title 28, United States Code, authorizes the Commission to establish general policies and promulgate rules and regulations as necessary for the Commission to carry out the purposes of the Sentencing Reform Act of 1984. The Commission originally adopted the Rules of Practice and Procedure in July 1997 and now proposes to make amendments to these rules. Specifically, the proposed amendments clarify various rules pertaining to public access and generally provide updated information regarding how the public can contact the Commission. In accordance with Rule 1.2 of its Rules of Practice and Procedure, the Commission hereby invites the public to provide comment on the proposed amendments.

Authority: 28 U.S.C. 995(a)(1); USSC Rules of Practice and Procedure 1.2.

Diana E. Murphy,
Chair.

Proposed Amendments: Part I of the Rules of Practice and Procedure is amended by striking the introduction in its entirety.

Part I of the Rules of Practice and Procedure is amended in Rule 1.1 by striking the last sentence and inserting the following:

“These rules are not intended to create or enlarge legal rights for any person.”.

Part II of the Rules of Practice and Procedure is amended in Rule 2.2 in the first paragraph by striking “public” following “and vote in”; and in the fourth paragraph by striking the last sentence and inserting the following:

“Such matters include the approval of budget requests, legal briefs, staff reports, analyses of legislation, administrative and personnel issues, notices regarding Commission amendment priorities, technical and clerical amendments to these rules, and decisions to hold a nonpublic meeting.”.

Part III of the Rules of Practice and Procedure is amended in Rule 3.1 by adding at the end the following paragraph:

“Members may participate in meetings from remote locations by electronic means, including telephone, satellite, and video conference devices.”.

Part III of the Rules of Practice and Procedure is amended in Rule 3.2 by adding at the end of the first paragraph the following:

“Except as provided in Rule 3.3, meetings of the Commission with outside parties shall be conducted in public.”.

Rule 3.3 is amended to read as follows:

“Rule 3.3—Nonpublic Meetings

The Commission may hold nonpublic meetings (i.e., meetings closed to the public) for purposes of the following: (1) To transact business of the Commission that is not appropriate for a public meeting (e.g., discussion and resolution of personnel and budget issues); (2) to receive information from, and participate in discussions with, Commission staff and any person designated by an ex-officio commissioner as support staff for that commissioner; and (3) upon a decision by a majority of the members then serving, to receive or share information, from or with any other person, that is inappropriate for public disclosure (one example of which would be information from a law enforcement agency, the public disclosure of which would reveal confidential investigatory techniques or jeopardize an ongoing investigation).”.

Part III of the Rules of Practice and Procedure is amended by striking Rule 3.4 in its entirety; and by redesignating Rules 3.5 and 3.6 as Rules 3.4 and 3.5, respectively.

Part V of the Rules of Practice and Procedure is amended in Rule 5.1 by striking “Office of Legislative and Public Affairs” and inserting “Office of Publishing and Public Affairs”; and by striking the second paragraph in its entirety and inserting the following:

“ ‘Public comment’ means (1) any written comment submitted by an outside party, including an agency represented by an ex-officio commissioner, pursuant to a solicitation by the Commission; and (2) any other written submission, from an outside party, that the Chair or a majority of the members then serving has not precluded from being made available to the public. ‘Public comment’ does not include any internal communication between and among commissioners, Commission staff, and any person designated by an ex-officio commissioner as support staff for that commissioner.”.

Part V of the Rules of Practice and Procedure is amended in Rule 5.2 by adding at the end the following paragraph:

“Subsequent to the deadline for comment on the tentative priorities, the Commission shall publish in the Federal Register, and make available to the public for inspection, a notice of priorities for Commission inquiry and possible action.”.

Part V of the Rules of Practice and Procedure is amended in Rule 5.3 by striking “Data and Reports” in the title and inserting “Information”; by striking “relevant data and reports for consideration” and inserting “relevant data, reports, and other information for consideration”; and by striking the last sentence and inserting the following:

“Upon authorization by the Staff Director, the Office of Publishing and Public Affairs shall make the data, reports, and other information available to the public as soon as practicable.”.

Part VI of the Rules of Practice and Procedure is amended in Rule 6.1 by striking “(202) 273-4500” and inserting “(202) 502-4500”; by striking “(202) 273-4529” and inserting “(202) 502-4699”; and by adding at the end “The e-mail address is pubaffairs@ussc.gov.”.

Rule 6.2 is amended to read as follows:

“Rule 6.2—Availability of Materials for Public Inspection; Office of Publishing and Public Affairs

The Office of Publishing and Public Affairs is the repository of all materials that are available to the public.

Generally, the Office of Publishing and Public Affairs will maintain for public inspection the following: (1) Agendas and schedules for Commission public meetings and public hearings; (2) approved minutes of Commission public meetings; (3) transcripts of public hearings; (4) public comment as defined in Rule 5.1; (5) data, reports, and other information made available pursuant to Rule 5.3; and (6) with respect to nonpublic meetings described in Rule 3.3(3), a list of outside parties attending the meeting, a list of issues upon which the Commission was briefed, and, unless otherwise directed by the Chair or a majority of the members then serving, copies of written materials submitted by outside parties.

The Office of Publishing and Public Affairs also will make available upon request (1) information available pursuant to the Commission's policy on public access to Commission data; and (2) A Guide to Publications & Resources that lists all publications and datasets available from the Commission.”.

Part VI of the Rules of Practice and Procedure is amended in Rule 6.4 by striking “http://www.access.gpo.gov/su_docs; “Information Available for Free Public Use in Federal Depository Libraries” should be selected. The listing may be searched by state or by area code.” and inserting “http://www.access.gpo.gov/su_docs/locators/findlibs/index.html.”

Part VI of the Rules of Practice and Procedure is amended in Rule 6.5 by striking “http://www.ICPSR.umich.edu/NACJD/home.html.” and inserting “http://www.ICPSR.umich.edu/NACJD/archive.html.”

[FR Doc. 01-22275 Filed 9-4-01; 8:45 am]

BILLING CODE 2211-01-P